DEPARTMENT OF VETERANS AFFAIRS

Research and Development Office; Government-Owned Inventions for Licensing

AGENCY: Research and Development Office, VA.

ACTION: Notice of government-owned inventions available for licensing.

SUMMARY: The inventions listed below by the U.S. Government, as represented by the Department of Veterans Affairs, are available for licensing in accordance with 35 U.S.C. 207 and 37 CFR part 404 to achieve expeditious commercialization of results of Federally-funded research and development. Foreign patents are filed on selected inventions to extend market coverage for U.S. companies and may also be available for licensing.

FOR FURTHER INFORMATION CONTACT: Technical and licensing information on these inventions may be obtained by Writing to: Mindy Aisen, MD, Department of Veterans Affairs, Director, Technology Transfer Program, Research and Development Office, 810 Vermont Avenue, NW., Washington, DC 20420; Fax: (202) 275-7228; e-mail at mindy.aisen@mail.va.gov.

Any request for information should include the number and title for the relevant inventions as indicated below. Issued patents may be obtained from the Commissioner of Patents, U.S. Patent and Trademark Office, Washington, DC 20031.

SUPPLEMENTARY INFORMATION: The inventions available for licensing are:

PCT/US00/11943 “Surgical (IJAT) Tools;”

PCT/US01/10443 “A Novel Specific Inhibitor of the Cyclin Kinase Inhibitor p21 Waf/Cip1 and Methods of Using the Inhibitor,” and

PCT/US01/18071 “Method of Treating Gastrointestinal Diseases Associated with Species of Genus Clostridium.”

Dated: December 19, 2001.
Anthony J. Principi,
Secretary, Department of Veterans Affairs.

[FR Doc. 01-32069 Filed 12-28-01; 8:45 am]

BILLING CODE 8320-01-M